SECURITIES AND EXCHANGE COMMISSION

Sunshine Act Meetings

TIME AND DATE: Notice is hereby given, pursuant to the provisions of the Government in the Sunshine Act, Public Law 94-409, that the Securities and Exchange Commission will hold an Open Meeting on Wednesday, September 14, 2022 at 10:00 a.m. (ET)

PLACE: The meeting will be webcast on the Commission's website at www.sec.gov.

STATUS: This meeting will begin at 10:00 a.m. (ET) and will be open to the public via webcast on the Commission's website at www.sec.gov.

MATTERS TO BE CONSIDERED:

1. The Commission will consider whether to propose amendments to the standards applicable to covered agencies of the U.S. Treasury securities regarding their membership requirements and risk management and whether to propose amendments to the broker-dealer customer protection rule regarding margin held at covered clearing agencies of U.S. Treasury securities.

CONTACT PERSON FOR MORE INFORMATION: For further information and to ascertain what, if any, matters have been added, deleted or postponed, please contact Vanessa A. Countryman from the Office of the Secretary at (202) 551-5400.

Authority: 5 U.S.C. 552b.

Dated: September 7, 2022.
Vanessa A. Countryman,
Secretary.

[FR Doc. 2022-19691 Filed 9-8-22; 11:15 am]

BILLING CODE 8011-01-P